DEPARTMENT OF THE INTERIOR

National Park Service

[PPSESEROC3, PPMPSAS1Y.YP0000; NPS-SERO-CHAT, EVER, GUIS, JELA, LIRI, VIIS-DTS# NPS0035785]

Assessment of Eligible and Ineligible Lands for Consideration as Wilderness Areas, Chattahoochee River National Recreation Area, Everglades National Park, Gulf Islands National Seashore, Jean Lafitte National Historical Park and Preserve, Little River Canyon National Preserve, Virgin Islands National Park

AGENCY: National Park Service, Interior.

ACTION: Notice of intent.

SUMMARY: Pursuant to the Wilderness Act of 1964, and in accordance with National Park Service (NPS) Management Policies 2006, the NPS intends to evaluate all previously unassessed lands within the following parks for their eligibility for inclusion in the national wilderness preservation system: Chattahoochee River National Recreation Area, Everglades National Park, Gulf Islands National Seashore, Jean Lafitte National Historical Park and Preserve, Little River Canyon National Preserve, and Virgin Islands National Park.

DATES: Each of the listed parks will begin its wilderness eligibility assessment on January 7, 2025. All assessments are expected to be completed by January 7, 2026.

ADDRESSES: Interested individuals, organizations, and agencies are encouraged to provide written information that may assist the NPS in identifying lands eligible or ineligible for designation as wilderness. Suggestions and requests for further information should be directed to: National Park Service, Department of the Interior Region 2—South Atlantic Gulf, 100 Alabama St. SW, Atlanta, GA 30303.

FOR FURTHER INFORMATION CONTACT: PJ Walker, Regional Wilderness Coordinator, by phone at 404-507-5709, via email at PJ_Walker@nps.gov.

SUPPLEMENTARY INFORMATION: In furtherance of the Wilderness Act of 1964 (16 U.S.C. 1131 et seq.), NPS Management Policies 2006 section 6.2.1 provides that all lands administered by the NPS, including new units and additions to existing units since 1964, will be evaluated for their eligibility for inclusion in the national wilderness preservation system. Accordingly, the NPS intends to evaluate all previously unassessed lands within the following parks for wilderness eligibility: Chattahoochee River National Recreation Area (all lands), Everglades National Park (three small, noncontiguous areas not previously assessed), Gulf Islands National Seashore (Cat Island Unit), Jean Lafitte National Historical Park and Preserve (Barataria Preserve Unit), Little River Canyon National Preserve (all lands), and Virgin Islands National Park.

For areas determined to be ineligible for wilderness designation, the wilderness preservation provisions in the NPS Management Policies 2006 would not apply (NPS Management Policies 2006 section 6.2.1.3). However, ineligible lands will continue to be managed in accordance with the NPS Organic Act and all other laws, Executive orders, regulations, and policies applicable to units of the national park system.

Lands and waters found to possess the characteristics and values of wilderness, as defined in the Wilderness Act and determined eligible pursuant to the wilderness eligibility assessment, will be formally studied to develop the recommendation to Congress for wilderness designation (NPS Management Policies 2006 section 6.2.2). The wilderness study will include the appropriate level of analyses under the National Environmental Policy Act and the National Historic Preservation Act. Congress alone can designate wilderness areas.

Determinations of eligibility and subsequent future actions will be announced in the Federal Register upon completion of these assessments.

Mark A. Foust,
Regional Director, Interior Region 2—South Atlantic-Gulf.

[FR Doc. 2025-00114 Filed 1-6-25; 8:45 am]

BILLING CODE 4312-52-P